DEPARTMENT OF HOMELAND SECURITY

Federal Emergency Management Agency

[Docket ID FEMA-2018-0002; Internal Agency Docket No. FEMA-B-1848]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Alabama:
Madison | City of Madison (17-04-4981P) | The Honorable Paul Finley, Mayor, City of Madison, 100 Hughes Road, Madison, AL 35758 | Engineering Department, 100 Hughes Road, Madison, AL 35758 | https://msc.fema.gov/portal/advanceSearch | Nov. 8, 2018 | 010308
Shelby | City of Helena (18-04-2020P) | The Honorable Mark R. Hall, Mayor, City of Helena, 816 Highway 52 East, Helena, AL 35080 | City Hall, 816 State Route 82, Helena, AL 35080 | https://msc.fema.gov/portal/advanceSearch | Nov. 10, 2018 | 010294
Colorado:
Boulder | City of Boulder, (17-08-1389P) | The Honorable Suzanne Jones, Mayor, City of Boulder, P.O. Box 791, Boulder, CO 80306 | City Hall, 1777 Broadway Street, Boulder, CO 80302 | https://msc.fema.gov/portal/advanceSearch | Nov. 5, 2018 | 080024
Boulder | Unincorporated areas of Boulder County, (17-08-1389P) | The Honorable Cindy Domenico, Chair, Boulder County Board of Commissioners, P.O. Box 471, Boulder, CO 80306 | Boulder County Transportation Department, 2525 13th Street, Suite 203, Boulder, CO 80304 | https://msc.fema.gov/portal/advanceSearch | Nov. 5, 2018 | 080023
Douglas | Unincorporated areas of Douglas County, (17-08-1321P) | The Honorable Lora Thomas, Chair, Douglas County Board of Commissioners, 100 3rd Street, Castle Rock, CO 80104 | Douglas County Public Works Department, Engineering Division, 100 3rd Street, Castle Rock, CO 80104 | https://msc.fema.gov/portal/advanceSearch | Nov. 9, 2018 | 080049
Connecticut: Fairfield | Town of Darien, (18-01-1237P) | The Honorable Jayme J. Stevenson, First Selectwoman, Town of Darien Board of Selectmen, 2 Renshaw Road, Darien, CT 06820 | Planning and Zoning Department, 2 Renshaw Road, Darien, CT 06820 | https://msc.fema.gov/portal/advanceSearch | Nov. 13, 2018 | 090005
Florida:
Monroe | Unincorporated areas of Monroe County, (18-04-4286P) | The Honorable David Rice, Mayor, Monroe County Board of Commissioners, 9400 Overseas Highway, Suite 210, Marathon, FL 33050 | Monroe County Building Department, 2798 Overseas Highway, Suite 300, Marathon, FL 33050 | https://msc.fema.gov/portal/advanceSearch | Oct. 31, 2018 | 125129
Monroe | Unincorporated areas of Monroe County, (18-04-4294P) | The Honorable David Rice, Mayor, Monroe County Board of Commissioners, 9400 Overseas Highway, Suite 210, Marathon, FL 33050 | Monroe County Building Department, 2798 Overseas Highway, Suite 300, Marathon, FL 33050 | https://msc.fema.gov/portal/advanceSearch | Nov. 13, 2018 | 125129
Orange | City of Orlando (17-04-3097P) | The Honorable Buddy Dyer, Mayor, City of Orlando, P.O. Box 4990, Orlando, FL 32802 | Information Technology Division, 400 South Orange Avenue, 8th Floor, Orlando, FL 32801 | https://msc.fema.gov/portal/advanceSearch | Nov. 9, 2018 | 120186
Sarasota | Unincorporated areas of Sarasota County, (18-04-3612P) | The Honorable Nancy Detert, Chair, Sarasota County Board of Commissioners, 1660 Ringling Boulevard, Sarasota, FL 34236 | Sarasota County Planning and Development Services Department, 1001 Sarasota Center Boulevard, Sarasota, FL 34240 | https://msc.fema.gov/portal/advanceSearch | Nov. 14, 2018 | 125144
Kentucky:
Hopkins | City of Mortons Gap, (18-04-0717P) | The Honorable Chris Phelps, Mayor, City of Mortons Gap, P.O. Box 367, Mortons Gap, KY 42440 | Hopkins County Joint Planning Commission, 10 South Main Street, Room 12, Madisonville, KY 42431 | https://msc.fema.gov/portal/advanceSearch | Oct. 18, 2018 | 210116
Hopkins | Unincorporated areas of Hopkins County (18-04-0717P) | The Honorable Donald E. Carroll, Hopkins County Judge-Executive, 56 North Main Street, Madisonville, KY 42431 | Hopkins County Joint Planning Commission, 10 South Main Street, Room 12, Madisonville, KY 42431 | https://msc.fema.gov/portal/advanceSearch | Oct. 18, 2018 | 210112
Jefferson | Louisville-Jefferson County Metro Government (18-04-3582P) | The Honorable Greg Fischer, Mayor, Louisville-Jefferson County Metro, Government, 527 West Jefferson Street, Louisville, KY 40202 | Louisville-Jefferson County Metropolitan Sewer District, 700 West Liberty Street, Louisville, KY 40203 | https://msc.fema.gov/portal/advanceSearch | Nov. 13, 2018 | 210120
Massachusetts: Norfolk | City of Quincy, (18-01-0033P) | The Honorable Thomas P. Koch, Mayor, City of Quincy, 1305 Hancock Street, Quincy, MA 02169 | City Hall, 1305 Hancock Street, Quincy, MA 02169 | https://msc.fema.gov/portal/advanceSearch | Nov. 9, 2018 | 255219
New Mexico:
Bernalillo | City of Albuquerque, (18-06-2124P) | The Honorable Timothy M. Keller, Mayor, City of Albuquerque, P.O. Box 1293, Albuquerque, NM 87103 | Planning Department, 600 2nd Street Northwest, Albuquerque, NM 87102 | https://msc.fema.gov/portal/advanceSearch | Nov. 20, 2018 | 350002
Santa Fe | Unincorporated areas of Santa Fe County, (18-06-0707P) | Ms. Katherine Miller, Manager, Santa Fe County, 102 Grant Avenue, Santa Fe, NM 87501 | Santa Fe County Building and Development Services Department, 102 Grant Avenue, Santa Fe, NM 87501 | https://msc.fema.gov/portal/advanceSearch | Nov. 13, 2018 | 350069
North Carolina:
Duplin | Unincorporated areas of Duplin County, (18-04-2016P) | The Honorable Jesse Dowe, Chairman, Duplin County Board of Commissioners, 224 Seminary Street, Kenansville, NC 28349 | Duplin County Planning, Department, 117 Beasley Street, Kenansville, NC 28349 | https://msc.fema.gov/portal/advanceSearch | Oct. 26, 2018 | 370083
Greene | Unincorporated areas of Greene County, (18-04-2055P) | The Honorable Bennie Heath, Chairman, Greene County Board of Commissioners, 229 Kingold Boulevard, Suite D, Snow Hill, NC 28580 | Greene County Department of Building Inspections, 104 Hines Street, Snow Hill, NC 28580 | https://msc.fema.gov/portal/advanceSearch | Oct. 5, 2018 | 370378
Macon | Unincorporated areas of Macon County, (17-04-8013P) | The Honorable James P. Tate, Chairman, Macon County, Board of Commissioners, 5 West Main Street, Franklin, NC 28734 | Macon County Planning Department, 5 West Main Street, Franklin, NC 28734 | https://msc.fema.gov/portal/advanceSearch | Nov. 8, 2018 | 370150
Pitt | Unincorporated areas of Pitt County, (18-04-2055P) | The Honorable Mark W. Owens, Jr., Chairman, Pitt County Board of Commissioners, 1717 West 5th Street, Greenville, NC 27834 | Pitt County Planning Department, 1717 West 5th Street, Greenville, NC 27834 | https://msc.fema.gov/portal/advanceSearch | Oct. 5, 2018 | 370372
Ohio:
Warren | Unincorporated areas of Warren County, (18-05-0549P) | The Honorable Tom Grossmann, Chairman, Warren County Board of Commissioners, 406 Justice Drive, Lebanon, OH 45036 | Warren County Building Department, 406 Justice Drive, Lebanon, OH 45036 | https://msc.fema.gov/portal/advanceSearch | Nov. 15, 2018 | 390757
Warren | Village of Corwin, (18-05-0549P) | The Honorable Dennis R Oszakiewski, Mayor, Village of Corwin, 946 Corwin Avenue, Corwin, OH 45068 | Zoning Department, 6050 North Clarksville Road, Waynesville, OH 45068 | https://msc.fema.gov/portal/advanceSearch | Nov. 15, 2018 | 390555
Warren | Village of Waynesville, (18-05-0549P) | The Honorable Dave Stubbs, Mayor, Village of Waynesville, 1400 Lytle Road, Waynesville, OH 45068 | Municipal Building, 1400 Lytle Road, Waynesville, OH 45068 | https://msc.fema.gov/portal/advanceSearch | Nov. 15, 2018 | 390565
Pennsylvania:
Lebanon | Township of Jackson, (18-03-1094P) | The Honorable Thomas M. Houtz, Chairman, Township of Jackson Board of Supervisors, 60 North Ramona Road, Myerstown, PA 17067 | Township Hall, 60 North Ramona Road, Myerstown, PA 17067 | https://msc.fema.gov/portal/advanceSearch | Nov. 2, 2018 | 421805
Lebanon | Township of Millcreek, (18-03-1094P) | The Honorable Donald Leibig, Chairman, Township of Millcreek Board of Supervisors, 81 East Alumni Avenue, Newmanstown, PA 17073 | Township Hall, 81 East Alumni Avenue, Newmanstown, PA 17073 | https://msc.fema.gov/portal/advanceSearch | Nov. 2, 2018 | 420574
Rhode Island: Washington | Town of Narragansett, (18-01-0820P) | The Honorable Susan Cicilline-Buonanno, President, Town of Narragansett Council, 25 5th Avenue, Narragansett, RI 02882 | Department of Community Development, 25 5th Avenue, Narragansett, RI 02882 | https://msc.fema.gov/portal/advanceSearch | Nov. 19, 2018 | 445402
South Carolina:
Berkeley | Unincorporated areas of Berkeley County, (17-04-6038P) | The Honorable William W. Peagler, III, Supervisor, Berkeley County, P.O. Box 6122, Moncks Corner, SC 29461 | Berkeley County Planning and Zoning Department, 1003 Highway 52, Moncks Corner, SC 29461 | https://msc.fema.gov/portal/advanceSearch | Dec. 10, 2018 | 450029
Berkeley | Unincorporated areas of Berkeley County, (18-04-3971P) | The Honorable William W. Peagler, III, Supervisor, Berkeley County, P.O. Box 6122, Moncks Corner, SC 29461 | Berkeley County Planning and Zoning Department, 1003 Highway 52, Moncks Corner, SC 29461 | https://msc.fema.gov/portal/advanceSearch | Dec. 10, 2018 | 450029
South Dakota:
Pennington | City of Rapid City, (18-08-0082P) | The Honorable Steve Allender, Mayor, City of Rapid City, 300 6th Street, Rapid City, SD 57701 | Public Works Department, Engineering Services Division, 300 6th Street, Rapid City, SD 57701 | https://msc.fema.gov/portal/advanceSearch | Nov. 2, 2018 | 465420
Pennington | Unincorporated areas of Pennington County, (18-08-0082P) | The Honorable Lloyd LaCroix, Chairman, Pennington County Board of Commissioners, 130 Kansas City Street, Suite 100, Rapid City, SD 57701 | Pennington County Planning Department, 130 Kansas City Street, Suite 200, Rapid City, SD 57701 | https://msc.fema.gov/portal/advanceSearch | Nov. 2, 2018 | 460064
Texas:
Bexar | City of San Antonio, (17-06-3967P) | The Honorable Ron Nirenberg, Mayor, City of San Antonio, P.O. Box 839966, San Antonio, TX 78283 | Transportation and Capital Improvements Department, Storm Water Division, 1901 South Alamo Street, 2nd Floor, San Antonio, TX 78204 | https://msc.fema.gov/portal/advanceSearch | Oct. 22, 2018 | 480045
Bexar | City of San Antonio, (18-06-0180P) | The Honorable Ron Nirenberg, Mayor, City of San Antonio, P.O. Box 839966, San Antonio, TX 78283 | Transportation and Capital Improvements Department, Storm Water Division, 1901 South Alamo Street, 2nd Floor, San Antonio, TX 78204 | https://msc.fema.gov/portal/advanceSearch | Oct. 22, 2018 | 480045
Bexar | Unincorporated areas of Bexar County, (18-06-2600X) | The Honorable Nelson W. Wolff, Bexar County Judge, 101 West Nueva Street, 10th Floor, San Antonio, TX 78205 | Bexar County Public Works Department, 233 North Pecas-La Trinidad Street, Suite 420, San Antonio, TX 78207 | https://msc.fema.gov/portal/advanceSearch | Nov. 5, 2018 | 480035
Dallas | City of Coppell, (18-06-0712P) | The Honorable Karen Hunt, Mayor, City of Coppell, 255 Parkway Boulevard, Coppell, TX 75019 | Engineering Department, 255 Parkway Boulevard, Coppell, TX 75019 | https://msc.fema.gov/portal/advanceSearch | Oct. 22, 2018 | 480170
Dallas | City of Dallas, (17-06-4026P) | The Honorable Michael S. Rawlings, Mayor, City of Dallas, 1500 Marilla Street, Suite 5EN, Dallas, TX 75201 | Floodplain and Drainage Management Department, 320 East Jefferson Street, Suite 307, Dallas, TX 75203 | https://msc.fema.gov/portal/advanceSearch | Oct. 22, 2018 | 480171
Dallas | City of University Park, (18-06-0033P) | The Honorable Olin Burnett Lane, Jr., Mayor, City of University Park, 3800 University Boulevard, University Park, TX 75205 | Peek Service Center, 4420 Worcola Street, Dallas, TX 75206 | https://msc.fema.gov/portal/advanceSearch | Nov. 5, 2018 | 480189
Dallas | Town of Highland Park (18-06-0033P) | The Honorable Margo Goodwin, Mayor, Town of Highland Park, 4700 Drexel Drive, Highland Park, TX 75205 | Engineering Department, 4700 Drexel Drive, Highland Park, TX 75205 | https://msc.fema.gov/portal/advanceSearch | Nov. 5, 2018 | 480178
Denton | City of Denton, (18-06-0017P) | The Honorable Chris A. Watts, Mayor, City of Denton, 215 East McKinney Street, Suite 100, Denton, TX 76201 | Engineering Services Department, 901-A Texas Street, Denton, TX 76509 | https://msc.fema.gov/portal/advanceSearch | Nov. 7, 2018 | 480194
Denton | Town of Bartonville, (18-06-0630P) | Mr. Michael Montgomery, Town of Bartonville Administrator, 1941 East Jeter Road, Bartonville, TX 76226 | Town Hall, 1941 East Jeter Road, Bartonville, TX 76226 | https://msc.fema.gov/portal/advanceSearch | Nov. 26, 2018 | 481501
Denton | Town of Flower Mound, (18-06-0630P) | The Honorable Steve Dixon, Mayor, Town of Flower Mound, 2121 Cross Timbers Road, Flower Mound, TX 75028 | Town Hall, 1001 Cross Timbers Road, Suite 2330, Flower Mound, TX 75028 | https://msc.fema.gov/portal/advanceSearch | Nov. 26, 2018 | 480777
Harris | Unincorporated areas of Harris County, (18-06-0774P) | The Honorable Edward M. Emmett, Harris County Judge, 1001 Preston Street, Suite 911, Houston, TX 77002 | Harris County Permit Department, 10555 Northwest Freeway, Suite 120, Houston, TX 77002 | https://msc.fema.gov/portal/advanceSearch | Oct. 29, 2018 | 480287
Harris | Unincorporated areas of Harris County, (18-06-1830P) | The Honorable Edward M. Emmett, Harris County Judge, 1001 Preston Street, Suite 911, Houston, TX 77002 | Harris County Permit Department, 10555 Northwest Freeway, Suite 120, Houston, TX 77002 | https://msc.fema.gov/portal/advanceSearch | Oct. 29, 2018 | 480287
McLennan | City of Waco, (17-06-4092P) | Mr. Wiley Stem III, Manager, City of Waco, 300 Austin Avenue, Waco, TX 76702 | Public Works Department, 300 Austin Avenue, Waco, TX 76702 | https://msc.fema.gov/portal/advanceSearch | Nov. 13, 2018 | 480461
Midland | City of Midland, (18-06-1903P) | Mr. Courtney Sharp, Manager, City of Midland, 300 North Loraine Street, Midland, TX 79701 | City Hall, 300 North Loraine Street, Midland, TX 79701 | https://msc.fema.gov/portal/advanceSearch | Nov. 5, 2018 | 480477
Midland | Unincorporated areas of Midland County, (18-06-1903P) | The Honorable Michael R. Bradford, Midland County Judge, 500 North Loraine Street, Suite 1100, Midland, TX 79701 | Midland County Department of Emergency Management, 500 North Loraine Street, Suite 1100, Midland, TX 79701 | https://msc.fema.gov/portal/advanceSearch | Nov. 5, 2018 | 481239
Montgomery | Unincorporated areas of Montgomery County, (18-06-1830P) | The Honorable Craig B. Doyal, Montgomery County Judge, 501 North Thompson Street, Suite 401, Conroe, TX 77301 | Montgomery County Commissioners Court Building, 501 North Thompson Street, Suite 103, Conroe, TX 77301 | https://msc.fema.gov/portal/advanceSearch | Oct. 29, 2018 | 480483
Tarrant | City of Grapevine, (18-06-0712P) | The Honorable William D. Tate, Mayor, City of Grapevine, P.O. Box 95104, Grapevine, TX 76099 | City Hall, 200 South Main Street, Grapevine, TX 76099 | https://msc.fema.gov/portal/advanceSearch | Oct. 22, 2018 | 480598
Wilson | Unincorporated areas of Wilson County, (18-06-2146P) | The Honorable Richard L. Jackson, Wilson County Judge, 1420 3rd Street, Suite 101, Floresville, TX 78114 | Wilson County Emergency Management Division, 800 10th Street, Building B, Floresville, TX 78114 | https://msc.fema.gov/portal/advanceSearch | Nov. 23, 2018 | 480230
Virginia: Prince William | Unincorporated areas of Prince William County, (18-03-0611P) | Mr. Christopher E. Martino, Prince William County Executive, 1 County Complex Court, Prince William, VA 22192 | Prince William County Department of Public Works, Watershed Management Branch, 5 County Complex Court, Prince William, VA 22192 | https://msc.fema.gov/portal/advanceSearch | Nov. 15, 2018 | 510119
Wyoming: Teton | Unincorporated areas of Teton County, (18-08-0225P) | The Honorable Mark Newcomb, Chairman, Teton County Board of Commissioners, P.O. Box 3594, Jackson, WY 83001 | Teton County Public Works Department, 320 South King Street, Jackson, WY 83001 | https://msc.fema.gov/portal/advanceSearch | Nov. 1, 2018 | 560094

[FR Doc. 2018-19616 Filed 9-10-18; 8:45 am]

BILLING CODE 9110-12-P